DEPARTMENT OF HOMELAND SECURITY

Federal Emergency Management Agency

[Docket ID FEMA-2017-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

These new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: November 29, 2017.
Roy E. Wright,
Deputy Associate Administrator for Insurance and Mitigation, Department of Homeland Security, Federal Emergency Management Agency.

State and county | Location and case No. | Chief executive officer of community | Community map repository | Date of modification | Community No.
Colorado:
Jefferson (FEMA Docket No.: B-1740) | City of Arvada (17-08-0149P) | The Honorable Marc Williams, Mayor, City of Arvada, P.O. Box 8101, Arvada, CO 80001 | Engineering Department, 8101 Ralston Road, Arvada, CO 80001 | Oct. 27, 2017 | 085072
Jefferson (FEMA Docket No.: B-1740) | Unincorporated areas of Jefferson County (17-08-0149P) | The Honorable Libby Szabo, Chair, Jefferson County Board of Commissioners, 100 Jefferson County Parkway, Golden, CO 80419 | Jefferson County Planning and Zoning Department, 100 Jefferson County Parkway, Golden, CO 80419 | Oct. 27, 2017 | 080087
Larimer (FEMA Docket No.: B-1740) | City of Fort Collins (17-08-0129P) | The Honorable Wade Troxel, Mayor, City of Fort Collins, 300 Laporte Avenue, Fort Collins, CO 80522 | Stormwater Utilities Department, 700 West Street, Fort Collins, CO 80522 | Oct. 26, 2017 | 080102
Larimer (FEMA Docket No.: B-1740) | Unincorporated areas of Larimer County (17-08-0129P) | The Honorable Lew Gaiter III, Chairman, Larimer County Board of Commissioners, 200 West Oak Street, 2nd Floor, Fort Collins, CO 80522 | Larimer County Engineering Department, 200 West Oak Street, 3rd Floor, Fort Collins, CO 80522 | Oct. 26, 2017 | 080101
Florida:
Charlotte (FEMA Docket No.: B-1733) | Unincorporated areas of Charlotte County (17-04-3236P) | The Honorable Bill Truex, Chairman, Charlotte County Board of Commissioners, 18500 Murdock Circle, Port Charlotte, FL 33948 | Charlotte County Community Development Department, 18500 Murdock Circle, Port Charlotte, FL 33948 | Sep. 21, 2017 | 120061
Charlotte (FEMA Docket No.: B-1735) | Unincorporated areas of Charlotte County (17-04-3469P) | The Honorable Bill Truex, Chairman, Charlotte County Board of Commissioners, 18500 Murdock Circle, Port Charlotte, FL 33948 | Charlotte County Community Development Department, 18500 Murdock Circle, Port Charlotte, FL 33948 | Oct. 4, 2017 | 120061
Collier (FEMA Docket No.: B-1740) | Unincorporated areas of Collier County (17-04-4308P) | The Honorable Penny Taylor, Chair, Collier County Board of Commissioners, 3299 Tamiami Trail East, Suite 303, Naples, FL 34112 | Collier County Engineering Services Section Growth Management Department, 3301 Tamiami Trail East, Building F, 1st Floor, Naples, FL 34112 | Oct. 20, 2017 | 120067
Indian River (FEMA Docket No.: B-1733) | City of Vero Beach (17-04-3092P) | The Honorable Laura Moss, Mayor, City of Vero Beach, 1053 20th Place, Vero Beach, FL 32960 | Planning and Development Department, 1053 20th Place, Vero Beach, FL 32960 | Sep. 25, 2017 | 120124
Lee (FEMA Docket No.: B-1733) | City of Sanibel (17-04-1616P) | The Honorable Kevin Ruane, Mayor, City of Sanibel, 800 Dunlop Road, Sanibel, FL 33957 | Planning and Code Enforcement Department, 800 Dunlop Road, Sanibel, FL 33957 | Sep. 29, 2017 | 120402
Lee (FEMA Docket No.: B-1740) | City of Sanibel (17-04-1950P) | The Honorable Kevin Ruane, Mayor, City of Sanibel, 800 Dunlop Road, Sanibel, FL 33957 | Planning and Code Enforcement Department, 800 Dunlop Road, Sanibel, FL 33957 | Oct. 18, 2017 | 120402
Lee (FEMA Docket No.: B-1733) | Unincorporated areas of Lee County (17-04-0381P) | The Honorable Frank Mann, Chairman, Lee County Board of Commissioners, 2120 Main Street, Fort Myers, FL 33901 | Lee County Community Development Department, 1500 Monroe Street, Fort Myers, FL 33901 | Oct. 4, 2017 | 120124
Manatee (FEMA Docket No.: B-1735) | City of Bradenton (17-04-1546P) | The Honorable Wayne H. Poston, Mayor, City of Bradenton, 101 Old Main Street West, Bradenton, FL 34205 | Building and Construction Services Department, 101 Old Main Street West, Bradenton, FL 34205 | Oct. 19, 2017 | 120155
Manatee (FEMA Docket No.: B-1735) | City of Holmes Beach (17-04-2767P) | The Honorable Bob Johnson, Mayor, City of Holmes Beach, 5801 Marina Drive, Holmes Beach, FL 34217 | Building and Zoning Department, 5801 Marina Drive, Holmes Beach, FL 34217 | Oct. 16, 2017 | 125114
Manatee (FEMA Docket No.: B-1735) | Unincorporated areas of Manatee County (16-04-7267P) | The Honorable Vanessa Baugh, Chair, Manatee County Board of Commissioners, P.O. Box 1000, Bradenton, FL 34206 | Manatee County Building and Development Services Department, 1112 Manatee Avenue West, Bradenton, FL 34205 | Sep. 21, 2017 | 120153
Manatee (FEMA Docket No.: B-1735) | Unincorporated areas of Manatee County (17-04-1546P) | The Honorable Vanessa Baugh, Chair, Manatee County Board of Commissioners, P.O. Box 1000, Bradenton, FL 34206 | Manatee County Building and Development Services Department, 1112 Manatee Avenue West, Bradenton, FL 34205 | Oct. 19, 2017 | 120153
Miami-Dade (FEMA Docket No.: B-1733) | City of Miami (17-04-3352P) | The Honorable Tomás P. Regalado, Mayor, City of Miami, 3500 Pan American Drive, Miami, FL 33133 | Building Department, 444 Southwest 2nd Avenue, Miami, FL 33130 | Sep. 29, 2017 | 120650
Monroe (FEMA Docket No.: B-1740) | City of Marathon (17-04-3767P) | The Honorable Dan Zieg, Mayor, City of Marathon, 9805 Overseas Highway, Marathon, FL 33050 | Planning Department, 9805 Overseas Highway, Marathon, FL 33050 | Oct. 6, 2017 | 120681
Monroe (FEMA Docket No.: B-1733) | Unincorporated areas of Monroe County (17-04-4161P) | The Honorable George Neugent, Mayor, Monroe County Board of Commissioners, 500 Whitehead Street, Suite 102, Key West, FL 33040 | Monroe County Building Department, 2798 Overseas Highway, Suite 300, Key West, FL 33050 | Sep. 26, 2017 | 125129
Orange (FEMA Docket No.: B-1735) | Unincorporated areas of Orange County (16-04-8268P) | The Honorable Teresa Jacobs, Mayor, Orange County, 201 South Rosalind Avenue, 5th Floor, Orlando, FL 32801 | Orange County Stormwater Division, 4200 South John Young Parkway, Orlando, FL 32839 | Sep. 22, 2017 | 120179
Osceola (FEMA Docket No.: B-1735) | Unincorporated areas of Osceola County (16-04-8268P) | The Honorable Brandon Arrington, Chairman, Osceola County Board of Commissioners, 1 Courthouse Square, Suite 4700, Kissimmee, FL 34741 | Osceola County Stormwater Division, 1 Courthouse Square, Suite 3100, Kissimmee, FL 34741 | Sep. 22, 2017 | 120189
Polk (FEMA Docket No.: B-1735) | Unincorporated areas of Polk County (16-04-7727P) | The Honorable Melony M. Bell, Chair, Polk County Board of Commissioners, P.O. Box 9005, Drawer BC01, Bartow, FL 33831 | Polk County Land Development Division, 330 West Church Street, Bartow, FL 33830 | Sep. 14, 2017 | 120261
St. Johns (FEMA Docket No.: B-1735) | Unincorporated areas of St. Johns County (17-04-1817P) | The Honorable James K. Johns, Chairman, St. Johns County Board of Commissioners, 500 San Sebastian View, St. Augustine, FL 32084 | St. Johns County Building Services Division, 4040 Lewis Speedway, St. Augustine, FL 32084 | Sep. 13, 2017 | 125147
Sumter (FEMA Docket No.: B-1733) | City of Wildwood (17-04-0118P) | The Honorable Ed Wolf, Mayor, City of Wildwood, 100 North Main Street, Wildwood, FL 34785 | Community Development Department, 7375 Powell Road, Wildwood, FL 34785 | Sep. 29, 2017 | 120299
Sumter (FEMA Docket No.: B-1733) | Unincorporated areas of Sumter County (17-04-0118P). | The Honorable Doug Gilpin, Chairman, Sumter County Board of Commissioners, 7375 Powell Road, Wildwood, FL 34785 | Sumter County Community Development Department, 7375 Powell Road, Wildwood, FL 34785 | Sep. 29, 2017 | 120296
North Carolina:
Buncombe (FEMA Docket No.: B-1748) | City of Asheville (17-04-2394P) | The Honorable Esther E. Manheimer, Mayor, City of Asheville, P.O. Box 7148, Asheville, NC 28802 | Public Works Department, 161 South Charlotte Street, Asheville, NC 28802 | Nov. 6, 2017 | 370032
Buncombe (FEMA Docket No.: B-1748) | Unincorporated Areas of Buncombe County (17-04-2394P) | The Honorable Brownie Newman, Chairman, Buncombe County Board of Commissioners, 200 College Street, Suite 300, Asheville, NC 28801 | Buncombe County Planning and Development Department, 46 Valley Street, Asheville, NC 28801 | Nov. 6, 2017 | 370031
Gaston (FEMA Docket No.: B-1748) | City of Gastonia (17-04-3783P) | The Honorable John Bridgeman, Mayor, City of Gastonia, P.O. Box 1748, Gastonia, NC 28053 | Municipal Business Center, 150 South York Street, Gastonia, NC 28052 | Nov. 13, 2017 | 370100
Watauga (FEMA Docket No.: B-1740) | Town of Boone (17-04-3175P) | The Honorable Rennie Brantz, Mayor, Town of Boone, 567 West King Street, Boone, NC 28607 | Planning and Inspections Department, 680 West King Street, Boone, NC 28607 | Oct. 26, 2017 | 370253
Pennsylvania:
Clinton (FEMA Docket No.: B-1740) | Borough of Flemington (16-03-2633P) | The Honorable Gary L. Durkin, Mayor, Borough of Flemington, 126 High Street, Flemington, PA 17745 | Borough Hall, 126 High Street, Flemington, PA 17745 | Oct. 13, 2017 | 420326
Clinton (FEMA Docket No.: B-1740) | Township of Allison (16-03-2633P) | The Honorable Peter Spangler, Chairman, Township of Allison Board of Supervisors, P.O. Box 27, Lock Haven, PA 17745 | Township Hall, 1106 Glen Road, Lock Haven, PA 17745 | Oct. 13, 2017 | 421534
Clinton (FEMA Docket No.: B-1740) | Township of Bald Eagle (16-03-2633P) | The Honorable James H. Bechdel Sr., Chairman, Township of Bald Eagle, Board of Supervisors, 12 Fairpoint Road, Mill Hall, PA 17751 | Township Hall, 12 Fairpoint Road, Mill Hall, PA 17751 | Oct. 13, 2017 | 420319
Clinton (FEMA Docket No.: B-1740) | Township of Castanea (16-03-2633P) | The Honorable Ronald L. Welch Sr., Chairman, Township of Castanea, Board of Supervisors, 347 Nittany Road, Lock Haven, PA 17745 | Township Hall, 347 Nittany Road, Lock Haven, PA 17745 | Oct. 13, 2017 | 420322
South Carolina: Dorchester (FEMA Docket No.: B-1748) | Unincorporated areas of Dorchester County (16-04-8178X) | The Honorable Jay Byars, Chairman, Dorchester County Council, 500 North Main Street, Suite 2, Summerville, SC 29483 | Dorchester County Building Services Division, 500 North Main Street, Summerville, SC 29483 | Oct. 19, 2017 | 450068
South Dakota: Pennington (FEMA Docket No.: B-1748) | City of Rapid City (16-08-1374P) | The Honorable Steve Allender, Mayor, City of Rapid City, 300 6th Street, Rapid City, SD 57701 | Public Works Department, Engineering Services Division, 300 6th Street, Rapid City, SD 57701 | Oct. 20, 2017 | 465420
Texas:
Bell (FEMA Docket No.: B-1740) | City of Belton (17-06-0764P) | The Honorable Marion Grayson, Mayor, City of Belton, P.O. Box 120, Belton, TX 76513 | City Hall, 333 Water Street, Belton, TX 76513 | Oct. 27, 2017 | 480028
Gregg (FEMA Docket No.: B-1740) | City of Longview (17-06-0856P) | The Honorable Andy Mack, Mayor, City of Longview, P.O. Box 1952, Longview, TX 75605 | City Hall, 933 Mobile Drive, Longview, TX 75604 | Oct. 17, 2017 | 480264
Harris (FEMA Docket No.: B-1727) | City of Houston (16-06-4198P) | The Honorable Sylvester Turner, Mayor, City of Houston, P.O. Box 1562, Houston, TX 77251 | Floodplain Management Department, 1002 Washington Avenue, Houston, TX 77002 | Aug. 28, 2017 | 480296
Harris (FEMA Docket No.: B-1727) | City of Missouri City (16-06-4198P) | The Honorable Allen Owen, Mayor, City of Missouri City, 1522 Texas Parkway, Missouri City, TX 77489 | City Hall, 1522 Texas Parkway, Missouri City, TX 77489 | Aug. 28, 2017 | 480304
Harris (FEMA Docket No.: B-1733) | City of Tomball (16-06-4206P) | The Honorable Gretchen Fagan, Mayor, City of Tomball, 401 Market Street, Tomball, TX 77375 | Community Development Department, 501 James Street, Tomball, TX 77375 | Sep. 18, 2017 | 480315
Harris (FEMA Docket No.: B-1733) | Unincorporated areas of Harris County (16-06-3936P) | The Honorable Edward M. Emmett, Harris County Judge, 1001 Preston Street, Suite 911, Houston, TX 77002 | Harris County Permit Office, 10555 Northwest Freeway, Suite 120, Houston, TX 77092 | Sep. 18, 2017 | 480287
Harris (FEMA Docket No.: B-1733) | Unincorporated areas of Harris County (16-06-4206P) | The Honorable Edward M. Emmett, Harris County Judge, 1001 Preston Street, Suite 911, Houston, TX 77002 | Harris County Permit Office, 10555 Northwest Freeway, Suite 120, Houston, TX 77092 | Sep. 18, 2017 | 480287
Harris (FEMA Docket No.: B-1733) | Unincorporated areas of Harris County (17-06-0884P) | The Honorable Edward M. Emmett, Harris County Judge, 1001 Preston Street, Suite 911, Houston, TX 77002 | Harris County Permit Office, 10555 Northwest Freeway, Suite 120, Houston, TX 77092 | Oct. 2, 2017 | 480287
Rockwall (FEMA Docket No.: B-1740) | City of Rockwall (17-06-2407P) | The Honorable Jim Pruitt, Mayor, City of Rockwall, 385 South Goliad Street, Rockwall, TX 75087 | Public Works Department, 385 South Goliad Street, Rockwall, TX 75087 | Oct. 23, 2017 | 480547
Utah: Iron (FEMA Docket No.: B-1733) | City of Cedar City (17-08-0143P) | The Honorable Maile Wilson, Mayor, City of Cedar City, 10 North Main Street, Cedar City, UT 84720 | City Hall, 10 North Main Street, Cedar City, UT 84720 | Oct. 12, 2017 | 490074
Virginia:
Fauquier (FEMA Docket No.: B-1735) | Unincorporated areas of Fauquier County (17-03-0226P) | Mr. Paul S. McCulla, Fauquier County Administrator, 10 Hotel Street, Warrenton, VA 20186 | Fauquier County Zoning and Development Services Department, 29 Ashby Street, 3rd Floor, Warrenton, VA 20186 | Oct. 12, 2017 | 510055
Prince William (FEMA Docket No.: B-1740) | Unincorporated areas of Prince William County (17-03-0682P) | Mr. Christopher E. Martino, Prince William County Executive, 1 County Complex Court, Woodbridge, VA 22192 | Prince William County Department of Public Works, 5 County Complex Court, Woodbridge, VA 22192 | Oct. 19, 2017 | 510119

[FR Doc. 2017-26809 Filed 12-12-17; 8:45 am]

BILLING CODE 9110-12-P